DEPARTMENT OF TRANSPORTATION

Federal Aviation Administration

14 CFR Part 97

[Docket No. 30491; Amdt. No. 3164]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 4, 2006. The compliance date for each SIAP and/or Weather Takeoff Minimums is specified in the amendatory provisions.

The incorporation by reference of certain publications listed in the regulations is approved by the Director of the Federal Register as of May 4, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169, or

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 21, 2006.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 08 June 2006

Decatur, AL, Pryor Field Rgnl, RNAV (GPS) RWY 18, Orig

Decatur, AL, Pryor Field Rgnl, VOR RWY 18, Amdt 13

Decatur, AL, Pryor Field Rgnl, GPS RWY 18, Orig-A, CANCELLED

Decatur, AL, Pryor Field Rgnl, Takeoff Minimums and Textual DP, Amdt 1

Big Lake, AK, Big Lake, Takeoff Minimums and Textual DP, Amdt 1

Mountain Village, AK, Mountain Village, RNAV (GPS) RWY 2, Orig

Mountain Village, AK, Mountain Village, RNAV (GPS) RWY 20, Orig

Mountain Village, AK, Mountain Village, GPS RWY 2, Orig-B, CANCELLED

Mountain Village, AK, Mountain Village, GPS RWY 20, Orig-B, CANCELLED

Mountain Village, AK, Mountain Village, Takeoff Minimums and Textual DP, Orig

Sand Point, AK, Sand Point, RNAV (GPS) RWY 13, Orig

Sand Point, AK, Sand Point, NDB RWY 13, Amdt 1

Sand Point, AK, Sand Point, NDB/DME RWY 13, Orig

Sand Point, AK, Sand Point, NDB/DME RWY 31, Orig

Sand Point, AK, Sand Point, GPS-C, Orig, CANCELLED

Sand Point, AK, Sand Point, NDB/DME-A, Amdt 4, CANCELLED

Sand Point, AK, Sand Point, NDB/DME-B, Orig, CANCELLED

Sand Point, AK, Sand Point, DF-A, Amdt 1, CANCELLED

Sand Point, AK, Sand Point, DF RWY 13, Orig

Sand Point, AK, Sand Point, Takeoff Minimums and Textual DP, Amdt 2

St Mary's, AK, St Mary's, RNAV (GPS) RWY 17, Amdt 1

St Mary's, AK, St Mary's, RNAV (GPS) RWY 35, Orig

St Mary's, AK, St Mary's, GPS RWY 34, Orig-A, CANCELLED

St Mary's, AK, St Mary's, LOC/DME RWY 17, Amdt 3

St Mary's, AK, St Mary's, DF RWY 6, Amdt 1

Mountain Home, AR, Ozark Regional, LOC/DME RWY 5, Orig

Arcata/Eureka, CA, Arcata, Takeoff Minimums and Textual DP, Amdt 6

Eagle, CO, Eagle County Regional, LDA/DME RWY 25, Orig

Eagle, CO, Eagle County Regional, LOC/DME-C, Amdt 2B, CANCELLED

Eagle, CO, Eagle County Regional, LOC-B, Amdt 1C, CANCELLED

New Haven, CT, Tweed-New Haven, VOR-A, Amdt 3

New Haven, CT, Tweed-New Haven, VOR RWY 2, Amdt 23

New Haven, CT, Tweed-New Haven, ILS OR LOC RWY 2, Amdt 16

New Haven, CT, Tweed-New Haven, RNAV (GPS) RWY 2, Orig

Deland, FL, Deland Muni-Sidney H. Taylor Field, RNAV (GPS) RWY 23, Orig

Deland, FL, Deland Muni-Sidney H. Taylor Field, VOR RWY 23, Amdt 3

Key West, FL, Key West Intl, RNAV (GPS) RWY 9, Orig

Key West, FL, Key West Intl, RNAV (GPS) RWY 27, Orig

Key West, FL, Key West Intl, GPS RWY 9, Orig-B, CANCELLED

Key West, FL, Key West Intl, GPS RWY 27, Orig-B, CANCELLED

Key West, FL, Key West Intl, Takeoff Minimums and Textual DP, Amdt 1

Miami, FL, Kendall-Tamiami Executive, RNAV (GPS) RWY 9R, Orig

Miami, FL, Kendall-Tamiami Executive, NDB OR GPS RWY 9R, Amdt 1B, CANCELLED

Miami, FL, Kendall-Tamiami Executive, ILS OR LOC RWY 9R, Amdt 9

Sarasota/Bradenton, FL, Sarasota/Bradenton Intl, Takeoff Minimums and Textual DP, Orig

Atlanta, GA, Hartsfield-Jackson Atlanta Intl, ILS OR LOC RWY 10, Orig, ILS RWY 10 (CAT II) ILS RWY 10 (CAT III)

Atlanta, GA, Hartsfield-Jackson Atlanta Intl, ILS OR LOC RWY 28, Orig, ILS RWY 28 (CAT II) ILS RWY 28 (CAT III)

Atlanta, GA, Hartsfield-Jackson Atlanta Intl, RNAV (GPS) RWY 8R, Amdt 1

Atlanta, GA, Hartsfield-Jackson Atlanta Intl, RNAV (GPS) RWY 8L, Amdt 1

Atlanta, GA, Hartsfield-Jackson Atlanta Intl, RNAV (GPS) RWY 9L, Amdt 1

Atlanta, GA, Hartsfield-Jackson Atlanta Intl, RNAV (GPS) RWY 9R, Amdt 1

Atlanta, GA, Hartsfield-Jackson Atlanta Intl, RNAV (GPS) RWY 26L, Amdt 1

Atlanta, GA, Hartsfield-Jackson Atlanta Intl, RNAV (GPS) RWY 26R, Amdt 1

Atlanta, GA, Hartsfield-Jackson Atlanta Intl, RNAV (GPS) RWY 27R, Amdt 1

Atlanta, GA, Hartsfield-Jackson Atlanta Intl, RNAV (GPS) RWY 27L, Amdt 1

Atlanta, GA, Hartsfield-Jackson Atlanta Intl, ILS OR LOC RWY 8R, Amdt 59

Atlanta, GA, Hartsfield-Jackson Atlanta Intl, ILS OR LOC RWY 8L, Amdt 3, ILS RWY 8L (CAT II) ILS RWY 8L (CAT III)

Atlanta, GA, Hartsfield-Jackson Atlanta Intl, ILS OR LOC RWY 9L, Amdt 8

Atlanta, GA, Hartsfield-Jackson Atlanta Intl, ILS OR LOC RWY 9R, Amdt 17, ILS RWY 9R (CAT II) ILS RWY 9R (CAT III)

Atlanta, GA, Hartsfield-Jackson Atlanta Intl, ILS OR LOC RWY 26L, Amdt 19

Atlanta, GA, Hartsfield-Jackson Atlanta Intl, ILS OR LOC RWY 26R, Amdt 4

Atlanta, GA, Hartsfield-Jackson Atlanta Intl, ILS OR LOC RWY 27L, Amdt 15

Mason City, IA, Mason City Muni, RNAV (GPS) RWY 18, Amdt 1

Moline, IL, Quad City, RADAR-1, Amdt 8, CANCELLED

Peoria, IL, Greater Peoria Regional, RADAR-1, Amdt 12C, CANCELLED

Gary, IN, Gary/Chicago Intl, RNAV (RNP) RWY 30, Orig

Pittsburg, KS, Atkinson Muni, RNAV (GPS) RWY 16, Amdt 1

Pittsburg, KS, Atkinson Muni, RNAV (GPS) RWY 34, Amdt 1

Wellington, KS, Wellington Muni, RNAV (GPS) RWY 17, Orig

Wellington, KS, Wellington Muni, RNAV (GPS) RWY 35, Orig

Wellington, KS, Wellington Muni, NDB RWY 17, Amdt 5

Wellington, KS, Wellington Muni, NDB RWY 35, Orig

Wellington, KS, Wellington Muni, VOR/DME RWY 17, Amdt 2

Elizabethtown, KY, Addington Field, RNAV (GPS) RWY 5, Orig

Elizabethtown, KY, Addington Field, RNAV (GPS) RWY 23, Orig

Elizabethtown, KY, Addington Field, VOR/DME RNAV OR GPS RWY 5, Amdt 2, CANCELLED

Elizabethtown, KY, Addington Field, VOR-A, Amdt 3

Elizabethtown, KY, Addington Field, Takeoff Minimums and Textual DP, Amdt 1

Hammond, LA, Hammond Northshore Regional, RNAV (GPS) RWY 18, Orig

Hammond, LA, Hammond Northshore Regional, RNAV (GPS) RWY 31, Orig

Hammond, LA, Hammond Northshore Regional, ILS OR LOC RWY 18, Amdt 3

Hammond, LA, Hammond Northshore Regional, VOR RWY 18, Amdt 3

Hammond, LA, Hammond Northshore Regional, GPS RWY 31, Orig-B, CANCELLED

Bedford, MA, Laurence G. Hanscom Field, ILS OR LOC RWY 29, Amdt 6

Bedford, MA, Laurence G. Hanscom Field, RNAV (GPS) RWY 23, Orig

Bedford, MA, Laurence G. Hanscom Field, GPS RWY 23, Orig-B, CANCELLED

Bedford, MA, Laurence G. Hanscom Field, Takeoff Minimums and Textual DP, Amdt 3

Frederick, MD, Frederick Muni, RNAV (GPS) RWY 5, Orig

Frederick, MD, Frederick Muni, GPS RWY 5, Amdt 1A, CANCELLED

Bar Harbor, ME, Hancock County-Bar Harbor, LOC/DME BC RWY 4, Amdt 2

Bar Harbor, ME, Hancock County-Bar Harbor, RNAV (GPS) RWY 4, Orig

Bar Harbor, ME, Hancock County-Bar Harbor, GPS RWY 4, Orig, CANCELLED

Bar Harbor, ME, Hancock County-Bar Harbor, Takeoff Minimums and Textual DP, Amdt 4

Detroit, MI, Detroit Metropolitan/Wayne County, Takeoff Minimums and Textual DP, Orig

Kirksville, MO, Kirksville Regional, RNAV (GPS) RWY 36, Orig

Kirksville, MO, Kirksville Regional, RNAV (GPS) RWY 18, Orig

Kirksville, MO, Kirksville Regional, VOR/DME RNAV OR GPS RWY 36, Amdt 8A, CANCELLED

Kirksville, MO, Kirksville Regional, VOR/DME RNAV OR GPS RWY 18, Amdt 7A, CANCELLED

Meridian, MS, Key Field, RNAV (GPS) RWY 1, Orig

Meridian, MS, Key Field, RNAV (GPS) RWY 4, Orig

Meridian, MS, Key Field, RNAV (GPS) RWY 22, Orig

Meridian, MS, Key Field, GPS RWY 1, Orig, CANCELLED

Meridian, MS, Key Field, VOR-A, Amdt 16

Meridian, MS, Key Field, Takeoff Minimums and Textual DP, Amdt 4

Millville, NJ, Millville Muni, NDB RWY 14, Amdt 6

Millville, NJ, Millville Muni, VOR/DME RNAV OR GPS RWY 28, Amdt 1, CANCELLED

Millville, NJ, Millville Muni, VOR/DME RNAV OR GPS RWY 32, Amdt 1, CANCELLED

Millville, NJ, Millville Muni, RNAV (GPS) RWY 14, Orig

Millville, NJ, Millville Muni, RNAV (GPS) RWY 28, Orig

Millville, NJ, Millville Muni, RNAV (GPS) RWY 32, Orig

Millville, NJ, Millville Muni, Takeoff Minimums and Textual DP, Amdt 2

New York, NY, LaGuardia, RNAV (GPS) RWY 4, Amdt 1

New York, NY, LaGuardia, RNAV (GPS) RWY 13, Orig

New York, NY, LaGuardia, RNAV (GPS) RWY 22, Amdt 1

New York, NY, LaGuardia, RNAV (GPS) RWY 31, Orig-A

Cleveland, OH, Cleveland-Hopkins Intl, Takeoff Minimums and Textual DP, Amdt 14

Cleveland, OH, Cuyahoga County, Takeoff Minimums and Textual DP, Orig

Elyria, OH, Elyria, Takeoff Minimums and Textual DP, Amdt 2

Lorain/Elyria, OH, Lorain County Regional, Takeoff Minimums and Textual DP, Orig

Medina, OH, Medina Municipal, Takeoff Minimums and Textual DP, Amdt 3

Middlefield, OH, Geauga County, Takeoff Minimums and Textual DP, Amdt 3

Painesville, OH, Concord Airpark, Takeoff Minimums and Textual DP, Amdt 1

Willoughby, OH, Willoughby Lost Nation Muni, Takeoff Minimums and Textual DP, Amdt 2

La Grande, OR, La Grande/Union County, RNAV (GPS) RWY 16, Orig

La Grande, OR, La Grande/Union County, GPS RWY 16, Orig, CANCELLED

Suffolk, VA, Suffolk Executive, LOC RWY 4, Amdt 2

Suffolk, VA, Suffolk Executive, RNAV (GPS) RWY 4, Amdt 1

Suffolk, VA, Suffolk Executive, RNAV (GPS) RWY 7, Orig

Suffolk, VA, Suffolk Executive, GPS RWY 7, Orig-B, CANCELLED

Suffolk, VA, Suffolk Executive, Takeoff Minimums and Textual DP, Amdt 3

Oak Harbor, WA, Wes Lupien, RNAV (GPS) RWY 7, Orig-A

Oak Harbor, WA, Wes Lupien, RADAR-1, Orig

Laramie, WY, Laramie Regional, RNAV (GPS) RWY 12, Orig

Laramie, WY, Laramie Regional, RNAV (GPS) RWY 30, Orig

Laramie, WY, Laramie Regional, VOR/DME OR TACAN RWY 12, Amdt 6

Laramie, WY, Laramie Regional, VOR/DME OR TACAN RWY 30, Amdt 7

* * * Effective 03 August 2006

Chickasha, OK, Chickasha Muni, NDB RWY 17, Amdt 1, CANCELLED

Washington, PA, Washington County, NDB RWY 27, Amdt 1, CANCELLED

[FR Doc. 06-4067 Filed 5-3-06; 8:45 am]

BILLING CODE 4910-13-P